NUCLEAR REGULATORY COMMISSION

[NRC-2015-0035]

Natural Phenomena Hazards in Fuel Cycle Facilities

AGENCY: Nuclear Regulatory Commission.

ACTION: Interim staff guidance; issuance.

SUMMARY: The U.S. Nuclear Regulatory Commission (NRC) is announcing the availability of Interim Staff Guidance (ISG) for Natural Phenomena Hazards (NPH) in Fuel Cycle Facilities. Fuel cycle facility licensees are required to conduct and maintain an Integrated Safety Analysis (ISA). This analysis must examine potential accident sequences caused by process deviations or other events internal to the facility and credible external events, including natural phenomena. The staff is issuing this ISG to provide additional guidance to the NRC staff for the review of fuel cycle facilities ISA evaluation of accident sequences that may result from NPH. This ISG will be incorporated into future revisions of Appendix D of Chapter 3 of NUREG 1520, “Standard Review Plan for the Review of a License Application for a Fuel Cycle Facility.” Specific emphasis was provided on seismic hazards due to recent events such as the Fukushima Dai-ichi accident and recent updates to the U.S. Geological Survey hazard curves.

DATES: The final ISG is available as of July 7, 2015.

ADDRESSES: Please refer to Docket ID NRC-2015-0035 when contacting the NRC about the availability of information regarding this document. You may obtain publicly-available information related to this document using any of the following methods:

• Federal Rulemaking Web site: Go to http://www.regulations.gov and search for Docket ID NRC-2015-0035. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jonathan Marcano, Office of Nuclear Materials Safety and Safeguards, U.S. Nuclear Regulatory Commission, Washington, DC 20555-0001; telephone: 301-415-6731, email: Jonathan.Marcano@nrc.gov.

SUPPLEMENTARY INFORMATION: A notice of opportunity for public comment on Draft Interim Staff Guidance (ISG) for Natural Phenomena Hazards (NPH) in Fuel Cycle Facilities was published in the Federal Register on February 24, 2015 (80 FR 9755). Comments were received from Stephen McDuffie (Agencywide Document and Management System (ADAMS) Accession No. ML15096A476) and the Nuclear Energy Institute (ADAMS Accession No. ML15104A341). The evaluation of these comments and the resulting changes to the interim staff guidance are discussed in a publicly-available document which is available in ADAMS under Accession No. ML15121A039.

The final interim staff guidance is available in ADAMS under Accession No. ML15121A044.

Dated at Rockville, Maryland, this 26th day of June, 2015.
For the U.S. Nuclear Regulatory Commission.
Marissa Bailey,
Director, Division of Fuel Cycle Safety, Safeguards, and Environmental Review, Office of Nuclear Material Safety and Safeguards.

[FR Doc. 2015-16542 Filed 7-6-15; 8:45 am]

BILLING CODE 7590-01-P